DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Sea Grant Program Application Requirements for Grants, for Sea Grant Fellowships, including the Dean John A. Knauss Marine Policy Fellowships, and for Designation as a Sea Grant College or Sea Grant Institute.

OMB Control Number: 0648-0362.

Form Number(s): NOAA 90-1, 90-2 and 90-4.

Type of Request: Regular (revision and extension of a currently approved information collection).

Number of Respondents: 162.

Average Hours per Response: Form 90-1, 30 minutes; Form 90-2, 20 minutes; Form 90-4, 15 minutes; Application for Designation as a Sea Grant College or Regional Consortium, 20 hours; Application for a Sea Grant Fellowship, 2 hours.

Burden Hours: 857.

Needs and Uses: This request is for revision and extension of a currently approved information collection.

The objectives of the National Sea Grant College Program, as stated in the Sea Grant legislation (33 U.S.C. 1121-1131) are to increase the understanding, assessments, development, utilization, and conservation of the Nation's ocean, coastal, and Great Lakes resources. The program accomplishes these objectives by conducting research, education, and outreach programs.

Grant monies are available for funding activities that help obtain the objectives of the Sea Grant Program. Both single and multi-project grants are awarded, with the latter representing about 80 percent of the total grant program. In addition to other standard grant application requirements, three forms are required with the grants. These are the Sea Grant Control Form 90-1, used to identify the organizations and personnel who would be involved in the grant and briefly summarize the proposed activities under the grant; the Project Record Form 90-2, which collects summary data on projects; and the Sea Grant Budget Form 90-4, which provides information similar to, but more detailed than on, forms SF-424A or SF-424C. In addition, the National Sea Grant College Program Act (33 U.S.C. 1126) provides for application for designation of a public or private institution of higher education, institute, laboratory, or State or local agency as a Sea Grant college or Sea Grant institute.

Revision: The Project Record Form has been revised, based on public comments.

Affected Public: Not-for-profit institutions; business or other for-profit organizations; individuals or households; state, local and tribal governments.

Frequency: Annually and on occasion.

Respondent's Obligation: Required to obtain or maintain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 21, 2014.
Glenna Mickelson,
Management Analyst, Office of the Chief Information Officer.

[FR Doc. 2014-25306 Filed 10-23-14; 8:45 am]

BILLING CODE 3510-KA-P